DEPARTMENT OF THE INTERIOR

Bureau of Land Management

[LLCOF02400.L16100000.DO0000.LXSSC0100000.20X]

Notice of Availability of the Records of Decision for the Browns Canyon National Monument Resource Management Plan, Colorado

AGENCY: Bureau of Land Management, Interior.

ACTION: Notice of availability.

SUMMARY: The Bureau of Land Management (BLM) and the U.S. Forest Service (USFS) have prepared separate Records of Decision (ROD) for the joint Approved Resource Management Plan (RMP) for the Browns Canyon National Monument (BCNM) located in Chaffee County, Colorado.

DATES: The BLM Colorado State Director signed the BLM ROD on July 21, 2020, and the Approved RMP is effective immediately on monument lands administered by the BLM. The Forest Supervisor of the Pike and San Isabel National Forest Comanche Cimarron Grasslands (PSICC) also signed the USFS ROD on July 21, 2020, and the Approved RMP will be effective on monument lands administered by the USFS 30 days after publication of this notice.

ADDRESSES: Copies of the BLM and USFS RODs and the Approved RMP are available upon request from the Field Manager, Royal Gorge Field Office, Bureau of Land Management (BLM RGFO), 3028 E. Main St., Cañon City, CO 81212, and from the District Ranger, PSICC Salida Ranger District, 5575 Cleora Road, Salida, CO 81201 or via the internet at https://go.usa.gov/xn2eC. Copies of the RODs and Approved RMP are available for public inspection by appointment at BLM RGFO, 3028 E. Main St., Cañon City, CO 81212, and at the PSICC Salida Ranger District, 5575 Cleora Road, Salida, CO 81201.

FOR FURTHER INFORMATION CONTACT: Joseph Vieira, Project Manager, telephone 719-246-9966; address 5575 Cleora Road, Salida, CO 81201; email jvieira@blm.gov. Persons who use a telecommunications device for the deaf (TDD) may call the Federal Relay Service (FRS) at 1-800-877-8339 to contact Mr. Vieira during normal business hours. The FRS is available 24 hours per day, 7 days per week, to leave a message or question. You will receive a reply during normal business hours.

SUPPLEMENTARY INFORMATION: The BLM and USFS have worked cooperatively with the public, stakeholders, interest groups, cooperating agencies in State and local government, tribes, the Environmental Protection Agency, and the U.S. Fish and Wildlife Service to develop an Approved RMP that provides for the long-term conservation and protection of the monument resources, objects, and values (ROV) identified in Presidential Proclamation 9232. These values include the “landscape's canyons, rivers, and backcountry forests, . . . diversity of plants and wildlife, including a significant herd of bighorn sheep, . . . scientifically significant geological, ecological, riparian, cultural, and historic resources.” The Presidential Proclamation states that the monument will “preserve its prehistoric and historic legacy and maintain its diverse array of scientific resources, ensuring that the prehistoric, historic, and scientific values remain for the benefit of all Americans,” while recognizing its “world class river rafting and outdoor recreation opportunities, including hunting, fishing, hiking, camping, mountain biking, and horseback riding.” The Presidential Proclamation also provides that the monument shall be subject to valid existing rights, and directs that laws, regulations, and policies followed by the BLM or USFS in the administration of grazing shall continue to apply, consistent with the care and management of the monument ROVs.

Management decisions outlined in the Approved RMP apply only to lands managed within the boundaries of the BCNM (approximately 21,600 acres). The Approved RMP represents a new management plan for 9,790 acres administered by the BLM under the National Landscape Conservation System and amends the Pike and San Isabel National Forest Land and Resource Management Plan covering 11,810 acres administered by the USFS. The Approved RMP also includes a portion of the Arkansas Headwaters Recreation Area, a cooperatively managed area along the Arkansas River administered by the USFS, the BLM, and Colorado Parks and Wildlife (CPW). The Approved RMP establishes goals, objectives, BLM management actions/USFS standards and allowable uses for monument resources and lands including, but not limited to, the BLM wilderness study area, eligible and suitable wild and scenic rivers, and lands subject to USFS wilderness suitability determination. The Approved RMP also balances recreation, livestock grazing, travel and transportation, and realty use in a manner consistent with ROV conservation and protection. The Approved RMP includes planning level decisions and land and resource use allocations and allowances, but it does not include decisions that implement components of the land use plan.

The BLM and USFS conducted pre-planning public involvement work sessions and compiled best available scientific information from October 2016 to April 2019. The agencies initiated a joint scoping effort for the RMP in May 2019 and collected information and input via public meetings and cooperating agency meetings with CPW, Chaffee County, the City of Salida, and the Town of Buena Vista to develop the Draft RMP/Environmental Impact Statement (EIS) released in October 2019. The BLM and USFS developed the Proposed Plan Alternative based upon the Draft Preferred Alternative and public comments on the Draft RMP/EIS. The Proposed RMP/Final EIS published in the Federal Register on April 17, 2020 (84 FR 21454), which initiated a 30-day protest period. The agencies received 10 protests on a variety of issues, which were resolved by the BLM Director and the USFS Deputy Regional Forester. In accordance with its regulations, the BLM also provided the Governor an opportunity to review the Proposed RMP/Final EIS to promote consistency with State government plans or policies. The Governor did not identify any inconsistency with State government plans or policies. Based on further internal review, the BLM and USFS made minor editorial modifications to the Approved RMP to provide further clarification of some of the decisions.

(Authority: 40 CFR 1506.6)

Jamie E. Connell,
Colorado State Director.

[FR Doc. 2020-16151 Filed 7-24-20; 8:45 am]

BILLING CODE 4310-JB-P